DEPARTMENT OF COMMERCE

International Trade Administration

[A-570-862]

Notice of Extension of Time Limit of the Preliminary Results of Antidumping Duty Administrative Review: Foundry Coke from the People's Republic of China; Correction.

AGENCY: Import Administration, International Trade Administration, Department of Commerce.

ACTION: Notice; Correction.

SUMMARY: The Department of Commerce published a notice in the Federal Register on May 28, 2003, concerning the extension of time limit of the preliminary results for foundry coke from the People's Republic of China. See Notice of Extension of Time Limit of the Preliminary Results of Antidumping Duty Administrative Review: Foundry Coke from the People's Republic of China, 68 FR 31680 (May 28, 2003). The document contained incorrect information on page 31681, at paragraph 2.

EFFECTIVE DATE: July 24, 2003

FOR FURTHER INFORMATION CONTACT: Michael Holton, AD/CVD Enforcement, Group III, Office IX, Import Administration, International Trade Administration, U.S. Department of Commerce, 14th Street and Constitution Avenue, N.W., Washington D.C. 20230; telephone: (202) 482-1324.

Extension of Time Limit for Preliminary Results

In the Federal Register of May 28, 2003, in 68 FR 31681 in the first column, correct the first sentence of the second paragraph to read:

“Therefore, we are extending the due date for the preliminary results by 120 days, until no later than September 30, 2003.”

Dated: July 16, 2003.
Barbara E. Tillman,
Acting Deputy Assistant Secretary for Import Administration, Group III.

[FR Doc. 03-18861 Filed 7-23-03; 8:45 am]

BILLING CODE 3510-DS-S